DEPARTMENT OF ENERGY

Federal Energy Regulatory Commission

Combined Notice of Filings #1

Take notice that the Commission received the following electric corporate filings:

Docket Numbers: EC18-60-000.

Applicants: Dominion Energy, Inc., SCANA Corporation, South Carolina Electric & Gas Company.

Description: Joint Application for Approval under Section 203 of the Federal Power Act and Request for Waivers and Confidential Treatment of Dominion Energy, Inc., et al.

Filed Date: 2/23/18.

Accession Number: 20180223-5172.

Comments Due: 5 p.m. ET 4/24/18.

Docket Numbers: EC18-61-000.

Applicants: NRG Yield, Inc., NRG Renew LLC, Carlsbad Energy Center LLC.

Description: Application for Approval Under Section 203 of the Federal Power Act and Request for Expedited Action of NRG Yield, Inc., et. al.

Filed Date: 2/23/18.

Accession Number: 20180223-5173.

Comments Due: 5 p.m. ET 3/16/18.

Docket Numbers: EC18-62-000.

Applicants: Stephentown Spindle, LLC, Hazle Spindle, LLC, Convergent Energy and Power LP.

Description: Joint Application for Authorization Under Section 203 of the Federal Power Act, Request for Waivers, and Request for Expedited Action of Stephentown Spindle, LLC, et al.

Filed Date: 2/23/18.

Accession Number: 20180223-5175.

Comments Due: 5 p.m. ET 3/16/18.

Take notice that the Commission received the following electric rate filings:

Docket Numbers: ER10-2507-015.

Applicants: Westar Energy, Inc.

Description: Notice of Non-Material Change in Status of Westar Energy, Inc.

Filed Date: 2/26/18.

Accession Number: 20180226-5097.

Comments Due: 5 p.m. ET 3/19/18.

Docket Numbers: ER10-3297-012.

Applicants: Powerex Corp.

Description: Notice of Non-Material Change in Status of Powerex Corp.

Filed Date: 2/23/18.

Accession Number: 20180223-5168.

Comments Due: 5 p.m. ET 3/16/18.

Docket Numbers: ER18-880-001.

Applicants: Plum Point Services Company, LLC.

Description: Tariff Amendment: Market-Based Rate Tariff Revisions to be effective 2/27/2018.

Filed Date: 2/26/18.

Accession Number: 20180226-5064.

Comments Due: 5 p.m. ET 3/19/18.

Docket Numbers: ER18-902-000.

Applicants: Dominion Energy Generation Marketing, Inc., Dominion Energy Fairless, LLC.

Description: Request for Limited Waiver and Expedited Consideration of Dominion Energy Generation Marketing, Inc., et. al.

Filed Date: 2/23/18.

Accession Number: 20180223-5060.

Comments Due: 5 p.m. ET 3/6/18.

Docket Numbers: ER18-907-000.

Applicants: Public Service Company of New Mexico.

Description: § 205(d) Rate Filing: First Revised Transmission Service Agreement No. 497 to be effective 2/9/2018.

Filed Date: 2/23/18.

Accession Number: 20180223-5134.

Comments Due: 5 p.m. ET 3/16/18.

Docket Numbers: ER18-909-000.

Applicants: Plum Point Energy Associates, LLC.

Description: § 205(d) Rate Filing: Market-Based Rate Tariff Revisions to be effective 2/27/2018.

Filed Date: 2/26/18.

Accession Number: 20180226-5065.

Comments Due: 5 p.m. ET 3/19/18.

Docket Numbers: ER18-910-000.

Applicants: Alabama Power Company.

Description: § 205(d) Rate Filing: Raven Solar Development (Dodge Solar) LGIA Filing to be effective 2/22/2018.

Filed Date: 2/26/18.

Accession Number: 20180226-5140.

Comments Due: 5 p.m. ET 3/19/18.

Docket Numbers: ER18-911-000.

Applicants: Graphic Packaging International Inc.

Description: Tariff Cancellation: Notice of Cancellation of Market-Based Rate Tariff to be effective 2/27/2018.

Filed Date: 2/26/18.

Accession Number: 20180226-5142.

Comments Due: 5 p.m. ET 3/19/18.

Docket Numbers: ER18-912-000.

Applicants: PJM Interconnection, L.L.C.

Description: Tariff Cancellation: Notice of Cancellation of ISA, SA No. 3982; Queue No. R52 to be effective 4/23/2018.

Filed Date: 2/26/18.

Accession Number: 20180226-5149.

Comments Due: 5 p.m. ET 3/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2018.
Nathaniel J. Davis, Sr.,
Deputy Secretary.

[FR Doc. 2018-04304 Filed 3-1-18; 8:45 am]

BILLING CODE 6717-01-P